DEPARTMENT OF COMMERCE

Foreign-Trade Zones Board

(Docket 13-2007)

Foreign-Trade Zone 173 Grays Harbor, Washington, Manufacturing Authority, Imperium Renewables, Inc., (Biodiesel) Aberdeen and Hoquiam, Washington

An application has been submitted to the Foreign-Trade Zones Board (the Board) by the Port of Grays Harbor, grantee of FTZ 173, requesting manufacturing authority on behalf of Imperium Renewables, Inc. (IRI), within FTZ 173 in Aberdeen and Hoquiam, Washington. The application was submitted pursuant to the provisions of the Foreign-Trade Zones Act, as amended (19 U.S.C. 81a-81u), and the regulations of the Board (15 CFR part 400). It was formally filed on April 4, 2007.

The IRI facility (70 employees) is located within Site 1 of FTZ 173, at the Port of Grays Harbor Industrial area. The facility will be used for the manufacturing and storage of biodiesel and glycerin (HTS duty rate ranges from duty-free- 4.6%). Components and materials sourced from abroad (representing 70% of the value of the finished product) include: soybean oil, sunflower oil, safflower oil, cottonseed oil, rape oil, colza oil, mustard oil and rapeseed oil (duty rate ranges from 1.7¢+3.4% to 19.1%).

FTZ procedures would exempt IRI from customs duty payments on the foreign components used in export production. The company anticipates that some 20 percent of the plant's shipments will be exported. On its domestic sales, IRI would be able to choose the duty rate during customs entry procedures that apply to finished biodiesel and the glycerin byproduct for the foreign inputs noted above. The request indicates that the savings from FTZ procedures would help improve the plant's international competitiveness.

In accordance with the Board's regulations, a member of the FTZ staff has been appointed examiner to investigate the application and report to the Board.

Public comment is invited from interested parties. Submissions (original and 3 copies) shall be addressed to the Board's Executive Secretary at the address below. The closing period for their receipt is June 11, 2007. Rebuttal comments in response to material submitted during the foregoing period may be submitted during the subsequent 15-day period to June 25, 2007.

A copy of the application will be available for public inspection at each of the following locations:

U.S. Department of Commerce Export Assistance Center, 2601 Fourth Avenue, Suite 310, Seattle, WA 98121.

Office of the Executive Secretary, Foreign-Trade Zones Board, U.S. Department of Commerce, Room 2814B, 1401 Constitution Ave. NW, Washington, DC 20230.

For further information, contact Elizabeth Whiteman at Elizabeth_Whiteman@ita.doc.gov or (202) 482-0473.

Dated: April 4, 2007.
Andrew McGilvray,
Executive Secretary.

[FR Doc. E7-6872 Filed 4-10-07; 8:45 am]

BILLING CODE 3510-DS-S